DEPARTMENT OF COMMERCE

National Oceanic and Atmospheric Administration

RIN 0648-XN12

Fisheries Off West Coast States and in the Western Pacific; Pacific Coast Groundfish Fishery; Application for an Exempted Fishing Permit

AGENCY: National Marine Fisheries Service (NMFS), National Oceanic and Atmospheric Administration (NOAA), Commerce.

ACTION: Notice; intent to issue exempted fishing permits, request for comment.

SUMMARY: NMFS announces the intent to issue exempted fishing permits (EFPs) to Pacific whiting shoreside vessels and first receivers that participate in a maximized retention and monitor program for the 2009 Pacific whiting shoreside fishery. EFPs are needed to allow vessels to retain catch in excess of the cumulative limits and to retain prohibited species until offloading. EFPs are also needed to allow first receivers to possess Pacific whiting deliveries with prohibited species and catch that is in excess of cumulative limits, and to used hopper type scales to derive accurate catch weights prior to sorting. Issuance of the EFPs would allow NMFS to collect catch data on incidentally caught species, including salmonids listed under the Endangered Species Act, and would allow new components of an overall monitoring program to be investigated before implementation of a regulatory program.

DATES: Comments must be received by March 17,2009.

ADDRESSES: You may submit comments, identified by RIN 0648-XN12 by any one of the following methods:

• Fax: 206-526-6736, Attn: Becky Renko.

• Mail: Barry A. Thom, Acting Regional Administrator, Northwest Region, NMFS, 7600 Sand Point Way NE, Seattle, WA 98115-0070, Attn: Becky Renko.

FOR FURTHER INFORMATION CONTACT: Becky Renko or Kevin Duffy at (206) 526-6140.

SUPPLEMENTARY INFORMATION: This action is authorized by the Magnuson-Stevens Fishery Conservation and Management Act provisions at 50 CFR 600.745 which states that EFPs may be used to authorize fishing activities that would otherwise be prohibited in order to collect data among other activities. On January 14, 2009, NMFS Northwest Region sent a letter to the Pacific Fishery Management Council (Council) that included a proposal for issuance of EFPs to vessels and first receivers participating in the 2009 Pacific whiting shoreside fishery. If issued, the EFPs would provide for a maximized retention and monitoring program for the Pacific whiting shoreside fishery. The proposed maximized retention and monitoring program regulations are intended to allow for the Pacific whiting shoreside fishery to be efficiently prosecuted while providing accurate catch data such that the Endangered Species Act and Magnuson-Stevens Fishery Conservation and Management Act requirements for this fishery are adequately met.

The issuance of EFPs would allow approximately 40 vessels to delay sorting of groundfish catch and to retain catch in excess of cumulative trip limits and prohibited species catch until offloading. These activities are otherwise prohibited by regulations at 50 CFR 660.306(a)(10) and (a)(2), respectively.

Additionally, issuance of the EFPs to approximately 15 first receivers (generally land-based processing facilities) would allow first receivers to possess more than a single cumulative limit of a particular species, per vessel, per applicable cumulative limit period. The possession of catch in excess of the cumulative limits is otherwise prohibited by regulations at 50 CFR 660.306(a)(10). In addition, the EFPs would include an allowance for first receivers to use hopper type scales to derive an accurate total catch weight prior to sorting. Regulations pertaining to sorting at § 660.370(h)(6) and prohibitions at § 660.306(a)(7) require vessels to sort the catch before weighing.

Issuance of the EFPs would allow for the collection of information on the catch of salmon, non-whiting groundfish, and other non-groundfish species incidentally taken with Pacific whiting. These data are needed to monitor the attainment of the shore-based whiting allocation while assuring that the fishery specifications (bycatch limits, species allocations, OYs, and biological opinion thresholds) are not exceeded. Because whiting flesh deteriorates rapidly once the fish are caught, whiting must be minimally handled and immediately chilled to maintain the flesh quality. Allowing Pacific whiting shoreside vessels to retain unsorted catch will also enable whiting quality to be maintained.

At the June 2007 Pacific Fishery Management Council (PFMC) meeting, the PFMC recommended that NMFS implement a maximized retention program in Federal regulations that would allow full retention of Pacific whiting catch by the vessels and delivered to first receivers on shore. NMFS Northwest Region is in the process of transitioning the Pacific whiting shoreside fishery from a maximized retention and monitoring program conducted under EFPs to a Federal regulatory program. Though it was expected that the program would be in place at the start of the 2009 fishing season, it will not be possible given the complexity in developing the program. The EFPs, as proposed, would be used to investigate the new components of the overall monitoring program before regulatory implementation. The EFPs would be in effect until the effective date of the new Federal maximized retention and monitoring program, or December 31, 2009, if the regulatory program is not in effect by that time.

Proposed Federal regulations for a maximized retention and monitoring program would require Pacific whiting shoreside vessels to dump unsorted catch directly below deck and would allow unsorted catch to be landed, providing that an electronic monitoring system (EMS) is used on all fishing trips to verify retention of catch at sea. The EMS is an effective tool for accurately monitoring catch retention and identifying the time and location of discard events. The EFPs would include provisions for EMS, paid for by the vessels, similar to the 2008 EFP and similar to the proposed Federal regulatory program.

Proposed Federal regulations for a maximized retention and monitoring program would also require first receivers to have on shore monitoring conducted by catch monitors. Catch monitors are third party employees, paid for by industry, and trained to NMFS standards. The EFP would include provisions for third party catch monitors from a NMFS specified provider. Like the proposed Federal regulatory program, catch monitors used under the EFPs would be trained in techniques that would be used for the verification of fish ticket data and in species identification. Catch monitor duties include overseeing the sorting, weighing, and recordkeeping process, as well as gathering information on incidentally caught salmon. Catch monitors verify the accuracy of electronic fish ticket data used to manage the Pacific whiting shoreside fishery such that inaccurate or delayed information does not result in any fishery specifications (bycatch limits, species allocations, OYs, and biological opinion thresholds) being exceeded.

In 2008, the first receiver EFPs required each first receiver to have one catch monitor on each day that Pacific whiting deliveries were received. In June 2008, to insure the integrity of sector-specific bycatch limits, the Council recommended as part of the 2009-2010 harvest specifications and management measures, that NMFS increase the catch monitor coverage in the proposed monitoring program to full coverage. With full coverage all Pacific whiting deliveries are monitored by catch monitors (the number of individual catch monitors per facility would vary depending on the hours of operation and the number of Pacific whiting deliveries received each day). NMFS intends to implement the Council's recommendations for full catch monitoring coverage in its rulemaking for a maximized retention and monitoring program. To be consistent with Council recommendations, the first receiver EFPs would also require full catch monitor coverage for 2009.

Authority: 16 U.S.C. 1801 et seq.

Dated: February 24, 2009.
Emily H. Menashes
Acting Director, Office of Sustainable Fisheries, National Marine Fisheries Service.

[FR Doc. E9-4299 Filed 2-27-09; 8:45 am]

BILLING CODE 3510-22-S